DEPARTMENT OF COMMERCE

National Oceanic and Atmospheric Administration

RIN 0648-XC642

Fisheries of the Gulf of Mexico; Southeast Data, Assessment, and Review (SEDAR); Public Meetings; Correction

AGENCY: National Marine Fisheries Service (NMFS), National Oceanic and Atmospheric Administration (NOAA), Commerce.

ACTION: Notice of change to a public meeting notice.

SUMMARY: The SEDAR 33 assessment of the Gulf of Mexico stocks of gag (Mycteroperca microlepis) and greater amberjack (Seriola dumerili) will consist of: A Data Workshop; an Assessment process conducted via webinars; and a Review Workshop. See SUPPLEMENTARY INFORMATION.

DATES: The Review Workshop will take place from 1 p.m. on Monday, February 24, 2014 until 12 p.m. on Thursday, February 27, 2014 in Miami, FL. See SUPPLEMENTARY INFORMATION.

ADDRESSES: Meeting addresses: The Review Workshop will be held at the Doubletree by Hilton Grande Hotel Biscayne Bay, 1717 N. Bayshore Drive, Miami, FL 33132; (305) 372-0313. All workshops and webinars are open to members of the public. Those interested in participating should contact Ryan Rindone at SEDAR (see FOR FURTHER INFORMATION CONTACT) to request an invitation providing pertinent information. Please request meeting information at least 24 hours in advance.

SEDAR address: 4055 Faber Place Drive, Suite 201, N. Charleston, SC 29405.

FOR FURTHER INFORMATION CONTACT: Ryan Rindone, SEDAR Coordinator; telephone: (813) 348-1630; email: ryan.rindone@gulfcouncil.org.

SUPPLEMENTARY INFORMATION: The original notice published in the Federal Register on April 26, 2013 (78 FR 24730). The original notice stated that the Review Workshop would be held on Monday, November 18 until Thursday, November 21, 2013. The date has been changed to February 2014 as listed in the DATES section of this notice. All other previously-published information remains unchanged.

Special Accommodations

These meetings are accessible to people with disabilities. Requests for auxiliary aids should be directed to the SEDAR office (see ADDRESSES) at least 10 business days prior to the meeting.

Authority: 16 U.S.C. 1801 et seq.

Dated: August 21, 2013.
Tracey L. Thompson,
Acting Deputy Director, Office of Sustainable Fisheries, National Marine Fisheries Service.

[FR Doc. 2013-20736 Filed 8-23-13; 8:45 am]

BILLING CODE 3510-22-P